FEDERAL COMMUNICATIONS COMMISSION

[CC Docket No. 96-45; DA 04-999]

Parties Are Invited to Update the Record Pertaining to Pending Petitions for Eligible Telecommunications Carrier Designations

AGENCY: Federal Communications Commission.

ACTION: Notice; solicitation of comments.

SUMMARY: In this document, interested parties are invited to update the record pertaining to pending petitions for designation as eligible telecommunications carriers (ETCs) filed pursuant to section 214(e)(6) of the Communications Act of 1934, as amended (the Act).

DATES: Supplemental Petitions are due on or before May 14, 2004. Comments are due on or before May 28, 2004. Reply comments are due on or before June 4, 2004.

ADDRESSES: Federal Communications Commission, 445 12th Street, SW., Washington, DC 20554. See SUPPLEMENTARY INFORMATION for further filing instructions.

FOR FURTHER INFORMATION CONTACT: Thomas Buckley, Attorney, Wireline Competition Bureau, Telecommunications Access Policy Division, (202) 418-7400, TTY (202) 418-0484.

SUPPLEMENTARY INFORMATION: This is a summary of public notice, CC Docket No. 96-45, DA 04-999, released April 12, 2004. On January 22, 2004, the Commission released the Virginia Cellular Order, 69 FR 8958, February 26, 2004, which granted in part and denied in part, the petition of Virginia Cellular, LLC to be designated as an ETC throughout its licensed service area in the Commonwealth of Virginia. In that Order, the Commission utilized a new public interest analysis for ETC designations and imposed ongoing conditions and reporting requirements on Virginia Cellular. The Commission further stated that the framework enunciated in the Virginia Cellular Order would apply to all ETC designations for rural areas pending further action by the Commission.

Following the framework established in the Virginia Cellular Order, on April 12, 2004, the Commission released the Highland Cellular Order, FCC 04-37, April 12, 2004, which granted in part and denied in part the petition of Highland Cellular, Inc. to be designated as an ETC in portions of its licensed service area in the Commonwealth of Virginia. In the Highland Cellular Order, the Commission concluded, among other things, that a telephone company in a rural study area may not be designated as a competitive ETC below the wire center level.

In light of the new standards and requirements set forth in the Virginia Cellular Order and the Highland Cellular Order, parties seeking ETC designation may wish to supplement previously filed pending ETC petitions, petitions for redefinition of service areas, and applications for review related to ETC designations. For this reason, parties that have pending petitions for ETC designation and petitions concerning related proceedings are asked to supplement their petitions with any new information or arguments they believe relevant. If applicable, parties should also demonstrate how they satisfy the Commission's requirements with regard to non-rural areas in which they seek ETC designation, as well as how they satisfy the Commission's requirements with regard to rural areas in which they seek ETC designation. The refreshed record will facilitate appropriate consideration of pending ETC petitions and related proceedings in light of the Virginia Cellular Order and Highland Cellular Order. A list of currently pending ETC petitions and related proceedings are set forth in the attached appendix.

Pursuant to §§ 1.415 and 1.419 of the Commission's rules, 47 CFR 1.415, 1.419, parties may supplement their petitions and applications as follows: supplemental petitions are due on or before May 14, 2004. This initial round is solely for the purpose of allowing parties to supplement their own petitions and applications. Comments are due on or before May 28, 2004, and reply comments are due on or before June 4, 2004. Comments may be filed using the Commission's Electronic Comment Filing System (ECFS) or by filing paper copies. See Electronic Filing of Documents in Rulemaking Proceedings, 63 FR 24121, May 1, 1998. Parties should clearly specify in the caption of all filings the petition(s) and application(s) to which their filing relates.

Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other then U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission.

Parties also must send three paper copies of their filing to Sheryl Todd, Telecommunications Access Policy Division, Wireline Competition Bureau, Federal Communications Commission, 445 12th Street, SW., Room 5-B540, Washington, DC 20554. In addition, commenters must send diskette copies to the Commission's copy contractor, Qualex International, Portals II, 445 12th Street, SW., Room CY-B402, Washington, DC 20054.

Pursuant to § 1.1206 of the Commission's rules, 47 CFR 1.1206, this proceeding will be conducted as a permit-but-disclose proceeding in which ex parte communications are permitted subject to disclosure.

Federal Communications Commission.
Anita Cheng,
Assistant Chief, Wireline Competition Bureau, Telecommunications Access Policy Division.

Appendix

| Date Filed
ETC Petitions
Smith Bagley, Inc. (Navajo Reservation, UT) | 5/24/02
Louisiana Unwired, LLC (AL) | 1/29/03
ALLTEL Communications, Inc. (AL) * | 4/14/03
ALLTEL Communications, Inc. (VA) * | 4/14/03
Corr Wireless Communications, LLC (AL) | 5/13/03
ALLTEL Communications, Inc. (GA) * | 8/26/03
ALLTEL Communications, Inc. (NC) * | 8/26/03
Sprint Corporation (VA) | 8/29/03
Sprint Corporation (NY) | 9/2/03
Sprint Corporation (TN) | 9/3/03
Sprint Corporation (PA) | 9/4/03
Sprint Corporation (AL) | 9/5/03
Sprint Corporation (GA) | 9/8/03
Public Service Cellular, Inc. (AL) | 9/12/03
Public Service Cellular, Inc. (GA) | 9/24/03
Sprint Corporation (FL) | 10/10/03
Sprint Corporation (NC) | 11/5/03
Virginia PCS Alliance, L.C. and Richmond 20 MHz, LLC d/b/a NTELOS (VA) | 11/17/03
ALLTEL Communications, Inc. (FL) * | 11/20/03
AT&T Wireless Services, Inc. (AL) | 1/5/04
Petitions for Redefinition of Service Areas
Public Utilities Commission of Colorado (Delta County Tele-Comm, Inc. Service Area in CO) | 8/12/02
Public Utilities Commission of Colorado (redefinition of Wiggins Telephone Association Service Area in CO) | 5/30/03
RCC Minnesota, Inc. (ME) | 6/24/03
Minnesota Public Utilities Commission (MN) | 8/7/03
ALLTEL Communications, Inc. (WI) | 11/21/03
ALLTEL Communications, Inc. (MI) | 12/17/03
Pending Applications for Review or Petitions for Reconsideration
CenturyTel of Eagle, Inc. Application for Review, or Alternatively, Petition for Reconsideration of the Commission's Approval of the Redefinition of the Service Area of CenturyTel, Inc. Pursuant to 47 CFR 54.207 (CO) | 12/17/02
Alabama Rural Local Exchange Carriers Application for Review of the Commission's Decision to Designate RCC Holdings, Inc. as an ETC Throughout its Licensed Service Area (AL) | 12/23/02
Alabama Rural Local Exchange Carriers Application for Review of the Commission's Decision to Designate Cellular South License, Inc. as an ETC Throughout its Licensed Service Area (AL) | 2/30/02
* This Public Notice only applies to ALLTEL's pending petitions with respect to ETC designations in areas served by non-rural carriers. ALLTEL previously bifurcated its pending ETC petitions into separate requests for ETC designation in non-rural and rural service areas.

[FR Doc. 04-9294 Filed 4-22-04; 8:45 am]

BILLING CODE 6712-01-P